DEPARTMENT OF HOMELAND SECURITY

Coast Guard

33 CFR Part 117

[Docket Number USCG-2016-0723]

RIN 1625-AA09

Drawbridge Operation Regulation; Atlantic Intracoastal Waterway, St. Augustine, FL

AGENCY: Coast Guard, DHS.

ACTION: Advance notice of proposed rulemaking.

SUMMARY: The Coast Guard is seeking comments and information concerning a proposal to change the operating schedule for the Bridge of Lions across the Atlantic Intracoastal Waterway, St. Augustine, Florida. The City of St. Augustine is concerned that vehicle traffic is becoming exponentially worse with each passing season and that on-demand bridge openings are contributing to vehicle traffic backups. The proposed modification would extend the twice an hour draw opening period from 7 a.m. to 9 p.m. daily, and preclude the bridge draw from opening at 3:30 p.m. on weekends and Federal holidays.

DATES: Comments and related material must reach the Coast Guard on or before May 15, 2017.

ADDRESSES: You may submit comments identified by docket number USCG-2016-0723 using the Federal eRulemaking Portal at http://www.regulations.gov. See the “Public Participation and Request for Comments” portion of the SUPPLEMENTARY INFORMATION section for further instructions on submitting comments.

FOR FURTHER INFORMATION CONTACT: If you have questions about this notice, call or email MST1 Timothy Fosdick, Sector Jacksonville, Waterways Management Division, U.S. Coast Guard; telephone 904-714-7623, email Timothy.P.Fosdick@uscg.mil.

SUPPLEMENTARY INFORMATION:

Table of Abbreviations

CFR Code of Federal Regulations

DHS Department of Homeland Security

FR Federal Register

NPRM Notice of Proposed Rulemaking

ANPRM Advance Notice of Proposed Rulemaking

§ Section Symbol

U.S.C. United States Code

A. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this ANPRM as being available in the docket, and all public comments, will be in our online docket at http://www.regulations.gov and can be viewed by following that Web site's instructions. Additionally, if you go to the online docket and sign up for email alerts, you will be notified when comments are posted or a final rule is published.

B. Regulatory History and Information

In 2015, the City of St. Augustine approached the Coast Guard with a recommendation to amend the Bridge of Lions operating schedule. Shortly thereafter, a meeting was held with the City of St. Augustine, the Florida Department of Transportation (FDOT), bridge owner, and the U.S. Coast Guard to seek improvements to reduce the vehicle traffic backups at the intersection of A1A, the Bridge of Lions, and Avenida Menendez. During the meeting, FDOT agreed to work with the City traffic engineers to develop better traffic signaling techniques to reduce the vehicle traffic backups. In May 2016, the City of St. Augustine proposed an amendment to the bridge operating schedule to reduce vehicle traffic backups in the affected area. The City would like to extend the 7 a.m. to 6 p.m. twice an hour opening schedule to 9 p.m., daily and preclude the bridge draw from opening at 3:30 p.m. on weekends and Federal holidays.

The current operating schedule, as published in 33 CFR 117.261(d), reads as follows: Bridge of Lions (SR A1A) bridge, mile 777.9 at St. Augustine. The draw shall open on signal; except that, from 7 a.m. to 6 p.m. the draw need open only on the hour and half-hour; however, the draw need not open at 8 a.m., 12 noon, and 5 p.m. Monday through Friday except Federal holidays. From 7 a.m. to 6 p.m. on Saturdays, Sundays and Federal holidays the draw need only open on the hour and half-hour.

In accordance with Nautical Chart 11485, 37th Ed., Nov. 2014, the Bridge of Lions has a vertical clearance of 18 feet in the closed (down) position at mean high water and a horizontal clearance of 79 feet. Additionally, there is a note on the chart stating “Strong tidal currents run perpendicular to the Bridge of Lions opening. Vessels engaged in towing and pushing operations are advised to transit the bridge opening during slack tide and, if necessary, breakdown the tow in small units or use adequate tugs.” In regards to the Bridge of Lions, the U.S. Coast Pilot 4, Chapter 12, Edition 47, 2015 also states “Caution is advised because the tidal currents, particularly ebb, run at right angles to the bridge. It is advisable to drift large tows through this opening at slack water. Normal flood currents of 1 knot and ebb currents of 1.5 knots may be expected. Several mishaps involving the bridge being hit by vessels, which have lost maneuvering control during periods of ebb currents, have occurred. Caution is advised when transiting the area.”

The original Bridge of Lions was built in 1927 and replaced in 2010. The new bridge was completed with no modifications to the vertical or horizontal clearances; therefore, there was no impact to the number of bridge openings due to vessel traffic.

C. Basis and Purpose

The legal basis and authorities for this ANPRM are found in 33 U.S.C. 499, 33 CFR 1.05-1, and Department of Homeland Security Delegation No. 0170.1. The Coast Guard is considering a change to the operating schedule for the Bridge of Lions across the Atlantic Intracoastal Waterway, St. Augustine, Florida. The Coast Guard received a request from the City of St. Augustine to modify the operating schedule for the Bridge of Lions in an effort to decrease vehicle traffic backups caused by the significant increase in vehicle traffic combined with the on-demand bridge openings. The purpose of this ANPRM is to solicit comments on a potential proposed rulemaking concerning a request to change the operating schedule for the Bridge of Lions.

D. Discussion of Proposed Rule

Amending the twice an hour opening schedule to a 7 a.m. to 9 p.m. period should not have an unreasonable impact on navigation. However, amending the bridge operating schedule to exclude a 3:30 p.m. opening on weekends and Federal holidays may have a negative impact to the public, as there are many tourists in vehicles and vessels in St. Augustine during these periods. Additional input will be required from the City of St. Augustine to understand why this particular time was selected. It will also be essential to determine whether any commercial vessel operators would be directly impacted by amending the bridge operating schedule.

E. Information Requested

To aid the Coast Guard in developing a proposed rule, we seek any comments, whether positive or negative, including but not limited to: The impact on vessel traffic and/or marine businesses in the area when extending the twice an hour opening; any potential negative impact to vessel traffic or marine businesses of not opening the bridge between 3 p.m. and 4 p.m.; whether the extension to 9 p.m. of the Bridge of Lions twice an hour opening schedule would reduce traffic congestion and; if traffic congestion would be reduced if the bridge did not open between 3 p.m. and 4 p.m. on weekends and Federal holidays.

Dated: March 9, 2017.
S.A. Buschman,
Rear Admiral, U.S. Coast Guard, Commander, Seventh Coast Guard District.

[FR Doc. 2017-05071 Filed 3-14-17; 8:45 am]

BILLING CODE 9110-04-P